DEPARTMENT OF TRANSPORTATION

Federal Aviation Administration

[Summary Notice No. PE-2021-2048]

Petition for Exemption; Summary of Petition Received

AGENCY: Federal Aviation Administration (FAA), DOT.

ACTION: Notice of petition for exemption received.

SUMMARY: This notice contains a summary of a petition seeking relief from specified requirements of Federal Aviation Regulations. The purpose of this notice is to improve the public's awareness of, and participation in, this aspect of the FAA's regulatory activities. Neither publication of this notice nor the inclusion or omission of information in the summary is intended to affect the legal status of the petition or its final disposition.

DATES: Comments on this petition must identify the petition docket number involved and must be received on or before February 23, 2021.

ADDRESSES: Send comments identified by docket number FAA-2018-0283 using any of the following methods:

• Federal eRulemaking Portal: Go to http://www.regulations.gov and follow the online instructions for sending your comments electronically.

• Mail: Send comments to Docket Operations, M-30; U.S. Department of Transportation (DOT), 1200 New Jersey Avenue SE, Room W12-140, West Building Ground Floor, Washington, DC 20590-0001.

• Hand Delivery or Courier: Take comments to Docket Operations in Room W12-140 of the West Building Ground Floor at 1200 New Jersey Avenue SE, Washington, DC, between 9 a.m. and 5 p.m., Monday through Friday, except Federal holidays.

• Fax: Fax comments to Docket Operations at 202-493-2251.

• Privacy: Except for Confidential Business Information (CBI) as described in the following paragraph, and other information as described in 14 CFR 11.35, the FAA will post all comments received without change, to http://www.regulations.gov/, including any personal information you provide. The FAA will also post a report summarizing each substantive verbal contact received about this proposal.

• Confidential Business Information: Confidential Business Information (CBI) is commercial or financial information that is both customarily and actually treated as private by its owner. Under the Freedom of Information Act (FOIA) (5 U.S.C. 552), CBI is exempt from public disclosure. If your comments responsive to this Notice contain commercial or financial information that is customarily treated as private, that you actually treat as private, and that is relevant or responsive to this Notice, it is important that you clearly designate the submitted comments as CBI. Please mark each page of your submission containing CBI as “PROPIN.” The FAA will treat such marked submissions as confidential under the FOIA, and the indicated comments will not be placed in the public docket of this Notice. Submissions containing CBI should be sent to Alan Sinclair, AIR-626, Human-Machine Interface Section, Technical Innovation Policy Branch, Policy and Innovation Division, Federal Aviation Administration, 2200 South 216th Street, Des Moines, Washington 98198; telephone and fax 206-231-3215; email alan.sinclair@faa.gov. Comments the FAA receives, which are not specifically designated as CBI, will be placed in the public docket for this rulemaking.

• Docket: Background documents or comments received may be read at http://www.regulations.gov at any time. Follow the online instructions for accessing the docket or go to the Docket Operations in Room W12-140 of the West Building Ground Floor at 1200 New Jersey Avenue SE, Washington, DC, between 9 a.m. and 5 p.m., Monday through Friday, except Federal holidays.

FOR FURTHER INFORMATION CONTACT: Mark Forseth, AIR-612, Technical Writing Section, Strategic Policy Management Branch, Policy and Innovation Division, Federal Aviation Administration, 2200 S 216th St., Des Moines, WA 98198-6547, email mark.forseth@faa.gov, phone (206) 231-3179.

This notice is published pursuant to 14 CFR 11.85.

Issued in Washington, DC.
Daniel Commins,
Acting Manager, AIR-612, Technical Writing Section, Strategic Policy Management Branch, Policy and Innovation Division, Federal Aviation Administration.

Petition for Exemption

Docket No.: FAA-2020-1185.

Petitioner: Dassault Aviation.

Section of 14 CFR Affected: Part 25, SFAR 109.2(d) and (g).

Description of Relief Sought: Permit doors between the galley and the passenger cabin, in part 135 operations, on Model Falcon 6X airplanes.

[FR Doc. 2021-02198 Filed 2-2-21; 8:45 am]

BILLING CODE 4910-13-P